DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before January 19, 2011. Address written comments to Statutory Import Programs Staff, Room 3720, U.S. Department of Commerce, Washington, DC 20230. Applications may be examined between 8:30 a.m. and 5 p.m.. at the U.S. Department of Commerce in Room 3720.

Docket Number: 10-067. Applicant: University of Chicago, Argonne LLC, 9700 South Cass Ave., Lemont, IL 60439. Instrument: Pilatus 100K Pixel Detector System. Manufacturer: Dectris Ltd., Switzerland. Intended Use: The instrument will be used to study Small-Angle X-ray Scattering (SAXS) for chemical, biological, and materials science, time resolved diffraction, and x-ray surface diffraction for magnetic materials. The instrument is the first and only commercially available pixel array detector for x-ray applications. The instrument's unique capabilities are a high detection efficiency (no readout noise and direct detection scheme), high dynamic range (20-bits), and fast readout speeds. Justification for Duty-Free Entry: There are no instruments of the same general category being manufactured in the United States. Application accepted by Commissioner of Customs: December 6, 2010.

Docket Number: 10-068. Applicant: University of Chicago, Argonne LLC, 9700 South Cass Ave., Lemont, IL 60439. Instrument: Pilatus 300K Pixel Detector System. Manufacturer: Dectris Ltd., Switzerland. Intended Use: The instrument will be used for wide angle SAXS, involving biological systems (proteins, RNA, DNA), catalysis reactions, and soft-condensed matter physics (e.g., ordering of polymers and colloidal suspensions). The instrument's unique capabilities are a high detection efficiency (no readout noise and direct detection scheme), high dynamic range (20-bits), and fast readout speeds. Justification for Duty-Free Entry: There are no instruments of the same general category being manufactured in the United States. Application accepted by Commissioner of Customs: December 6, 2010.

Docket Number: 10-069. Applicant: University of Minnesota School of Dentistry, 6-150 MoosT, 515 Delaware St., S E, Minneapolis, MN 55455. Instrument: Dental Imaging System: Cross-Polarization Swept-Source Optical Coherence Tomography with a MEMS Handpiece. Manufacturer: Santec Corporation, Japan. Intended Use: The main use for the instrument is to study the oral biofilm of dental decay in children. This custom made imaging system will image under resin composite dental fillings. The three crucial aspects of the instrument are size (the hand piece is 16 X 15 X 80 mm), speed (can operate at 30 kHz swept source speed), and image contrast (able to suppress the parallel polarization by 30 dB). Justification for Duty-Free Entry: There are no instruments of the same general category being manufactured in the United States. Application accepted by Commissioner of Customs: December 8, 2010.

Dated: December 22, 2010.
Gregory Campbell,
Director, IA Subsidies Enforcement Office.

[FR Doc. 2010-32934 Filed 12-29-10; 8:45 am]

BILLING CODE 3510-DS-P